DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on an extension of a currently approved collection of information (OMB #1024-0232).

DATES: Public comments on this Information Collection Request (ICR) will be accepted on or before January 4, 2010.

ADDRESSES: Send comments to: Diane Miller, National Manager, National Underground Railroad Network to Freedom Program, National Park Service, Midwest Regional Office, 601 Riverfront Drive, Omaha, Nebraska 68102 or via fax at 402-661-1982; or via e-mail at diane_miller@nps.gov. All responses to the Notice will be summarized and included in the request for the Office of Management and Budget (OMB) approval. All comments will become a matter of public record.

To Request a Draft of Proposed Collection of Information Contact: Diane Miller, National Underground Railroad Network to Freedom Program, National Park Service, 601 Riverfront Drive, Omaha, Nebraska 68102; or via phone at 402/661-1588; or via fax at 402/661-1982; or via e-mail at: diane_miller@nps.gov. You are entitled to a copy of the entire ICR package free of charge once the package is submitted to OMB for review. You can access this ICR at: http://www.reginfo.gov/public/.

SUPPLEMENTARY INFORMATION: Title: National Park Service National Underground Railroad Network to Freedom.

Form(s): National Park Service National Underground Railroad Network to Freedom Application Form.

OMB Control Number: 1024-0232.

Expiration Date: 2/28/2010.

Type of Request: Revision of a currently approved collection of information.

SUPPLEMENTARY INFORMATION: OMB regulations at 5 CFR 1320, which implementing provisions of the Paperwork Reduction Act of 1995 (Pub. L. 104-13), require that interested members of the public and affected agencies have an opportunity to comment on information collection and recordkeeping activity [see 5 CFR 1320.8 (d)]. This notice identifies an information collection that NPS will be submitting to OMB for approval. This collection is contained in Public Law 105-23, the National Underground Railroad Network to Freedom Act of 1998 which requires the establishment of a network justifiably associated with the Underground Railroad. The Network is designed to be a collection of sites, facilities, and programs, both governmental and non-governmental, around the United States with a verifiable association with the historic Underground Railroad movement. The Network to Freedom Application Form is completed by Federal agencies, State Historic Preservation Offices, other State agencies, local governments, organizations, and individuals to determine their eligibility to the Network. The National Underground Railroad Network to Freedom, National Park Service will request a 3-year term of approval for this information collection activity.

Description of Need: The NPS has identified guidelines and criteria for associated elements to qualify for the Network. The application form for historic sites, educational programs, and archives and research centers collects data to determine if eligibility requirements are met. The documentation will be incorporated into a database that will be available to the general public for information purposes. Public Law 105-2103 authorizes the NPS to develop and administer the National Underground Railroad Network to Freedom Program, a nationwide collection of governmental and non-governmental sites, facilities, and programs associated with the historic Underground Railroad movement. The NPS has developed the application process through which associated elements can be included in the Network. The information collected will: (a) Verify associations to the Underground Railroad; (b) measure minimum levels of standards for inclusion in the Network; and (c) identify general needs for technical assistance. The NPS specifically requests comments on: (1) The need for information including whether the information has practical utility; (2) the accuracy of the reporting burden hours estimates; (3) ways to enhance the quality and clarity of the information to be collected; and (4) ways to minimize the burden of information collection on respondents, including the use of automated collection techniques or other forms of information technology.

Automated Data Collection: Respondents must verify associations and characteristics through descriptive texts that are the result of historical research. Evaluations are based on subjective analysis of the information provided, which often includes copies of rare documents and photographs. Much of the information is submitted in electronic format, but at the present time, there is no automated way to gather all of the required information.

Description of respondents: The affected public is State, tribal, and local governments, Federal agencies, businesses, non-profit organizations, and individuals throughout the United States.

Estimated average number of responses: 70 per year.

Frequency of Response: Once per respondent.

Estimated average time burden per respondent: 15 hours.

Estimated total annual reporting burden: 1,050 hours.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: October 29, 2009.
Cartina A. Miller,
Information Collection Clearance Officer, National Park Service.

[FR Doc. E9-26470 Filed 11-3-09; 8:45 am]

BILLING CODE 4312-52-P